DEPARTMENT OF COMMERCE

Census Bureau

Proposed Information Collection; Comment Request; Information and Communication Technology Survey

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before October 18, 2013.

ADDRESSES: Direct all written comments to Jennifer Jessup, Departmental Paperwork Clearance Officer, Department of Commerce, Room 6616, 14th and Constitution Avenue NW., Washington, DC 20230 (or via the Internet at jjessup@doc.gov).

FOR FURTHER INFORMATION CONTACT: Requests for additional information or copies of the information collection instrument(s) and instructions should be directed to Valerie Mastalski, U.S. Census Bureau, Room HQ-6K171, Washington, DC 20233; (301) 763-3317 (or via the Internet at Valerie.Cherry.Mastalski@census.gov).

SUPPLEMENTARY INFORMATION:

I. Abstract

The U.S. Census Bureau plans to conduct the 2013 through 2015 Information and Communication Technology Survey (ICTS). The annual survey collects data on two categories of non-capitalized expenses (purchases; and operating leases and rental payments) for four types of information and communication technology equipment and software (computers and peripheral equipment; ICT equipment, excluding computers and peripherals; electromedical and electrotherapeutic apparatus; and computer software, including payroll associated with software development). The survey also collects capital expenditures data on the four types of ICT equipment and software cited above. Only non-farm, non-governmental companies, organizations, and associations operating in the United States are included in this survey.

The Bureau of Economic Analysis (BEA), Federal Reserve Board, Bureau of Labor Statistics and industry analysts use these data to evaluate productivity and economic growth prospects. In addition, the ICTS provides improved source data significant to BEA's estimate of the investment component of Gross Domestic Product, capital stock estimates, and capital flow tables.

II. Method of Collection

For the 2012 and prior ICT data collection, the Census Bureau used mail out/mail back survey forms to collect data. Companies were able to respond via Centurion (The Bureau's online reporting system), by mail, or by using our toll-free number to reply via secure facsimile machine. Companies were asked to respond to the survey within 30 days of the initial mailing. Letters and/or telephone calls encouraging participation were directed to companies that had not responded by the designated time.

Employer companies were mailed one of three forms based on their diversity of operations and number of industries with payroll. Companies that operated in only one industry received an ICT-1(S) form. Companies that operated in more than one, but less than nine industries received an ICT-1(M) form. And, companies that operated in nine or more industries received an ICT-1(L).

The Census Bureau is considering collecting the 2013 ICT data primarily through electronic reporting. Companies would receive a notification letter containing their User ID and password, and would be directed to report online through the Census Bureau's Business Help Site. The online reporting instrument would be an electronic version of the paper data collection instrument and would be based on their diversity of operations and number of industries with payroll. Companies operating in only one industry will access an ICT-1(S) form or electronic instrument. Companies operating in more than one, but less than nine industries will access an ICT-1(M) form or electronic instrument. And, companies that operate in nine or more industries would access an ICT-1(L) form or electronic instrument. Companies would be able to print the form through online services or request a paper form be mailed.

The Census Bureau would continue to ask companies to respond to the survey within 30 days. Reminder letters and/or telephone calls encouraging participation would continue to be directed to all companies that have not responded by the designated time.

III. Data

OMB Control Number: 0607-0909.

Form Number: ICT-1(S), ICT-1(M), and ICT-1(L).

Type of Review: Regular submission.

Affected Public: Businesses or other for-profit organizations, non-profit institutions, small businesses or organizations.

Estimated Number of Respondents: Approximately 45,000 employer companies.

Estimated Time per Response: The average for all respondents is 1.80 hours with the range from less than 1 hour to 21 hours.

Estimated Total Annual Burden Hours: 79,610.

Estimated Total Annual Cost: The total cost to all respondents is estimated to be $2.4 million.

Respondents' Obligation: Mandatory.

Legal Authority: Title 13 U.S.C. Sections 182, 224, and 225.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: August13, 2013.
Gwellnar Banks,
Management Analyst, Office of the Chief Information Officer.

[FR Doc. 2013-20039 Filed 8-16-13; 8:45 am]

BILLING CODE 3510-07-P